NUCLEAR REGULATORY COMMISSION

[NRC-2015-0001]

Sunshine Act Meeting Notice

DATE: July 27, August 3, 10, 17, 24, 31, 2015.

PLACE: Commissioners' Conference Room, 11555 Rockville Pike, Rockville, Maryland.

STATUS: Public and Closed.

Week of July 27, 2015

There are no meetings scheduled for the week of July 27, 2015.

Week of August 3, 2015—Tentative

Thursday, August 6, 2015

9:30 a.m. Strategic Programmatic Overview of the Operating Reactors Business Line (Public Meeting); (Contact: Nathan Sanfilippo: 301-415-8744)

This meeting will be webcast live at the Web address— http://www.nrc.gov/.

1:00 p.m. Discussion of Management and Personnel Issues (Closed—Ex. 2 & 6)

Week of August 10, 2015—Tentative

Thursday, August 13, 2015

9:00 a.m. Briefing on Greater-Than-Class-C Low-Level Radioactive Waste (Public Meeting); (Contact: Gregory Suber—301-415-8087)

This meeting will be webcast live at the Web address— http://www.nrc.gov/.

Week of August 17, 2015—Tentative

There are no meetings scheduled for the week of August 17, 2015.

Week of August 24, 2015—Tentative

There are no meetings scheduled for the week of August 24, 2015.

Week of August 31, 2015—Tentative

There are no meetings scheduled for the week of August 31, 2015.

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: July 22, 2015.
Richard J. Laufer,
Technical Coordinator, Office of the Secretary.

[FR Doc. 2015-18353 Filed 7-22-15; 4:15 pm]

BILLING CODE 7590-01-P